DEPARTMENT OF HOMELAND SECURITY

Federal Emergency Management Agency

[Docket ID: FEMA-2016-0025; OMB No. 1660-0026]

Agency Information Collection Activities: Submission for OMB Review; Comment Request; State Administrative Plan for the Hazard Mitigation Grant Program

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 21, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on November 29, 2016, at 81 FR 85995, with a 60 day public comment period. One comment was submitted through Regulations.gov that was not related to this information collection. FEMA also received requests for copies of the information collection and provided the information to the requesters. This 30 day notice includes revisions to the estimates provided in the 60 day notice. FEMA updated the estimated number of respondents and refined the estimated total annual burden hours and estimated cost accordingly. The purpose of this notice is to notify the public that FEMA will submit the information collection abstracted below to the Office of Management and Budget for review and clearance.

Collection of Information

Title: Administrative Plan for the Hazard Mitigation Grant Program.

Type of information collection: Reinstatement, with change, of a previously approved information collection for which approval has expired.

OMB Number: 1660-0026.

Form Titles and Numbers: None.

Abstract: FEMA regulation 44 CFR 206.437 requires development and update of the Administrative Plan by grant Recipients as condition of receiving Hazard Mitigation Grant Program (HMGP) funding under Section 404 of the Robert T. Stafford Disaster Relief and Emergency Assistance Act of 1988. Update is required after each disaster declaration to meet any policy guidance or administration changes. FEMA is responsible for review/approval of Administrative Plans for compliance with 44 CFR 206.437.

Affected Public: State, local or Tribal government.

Estimated Number of Respondents: 35.

Estimated Total Annual Burden Hours: 560.

Estimated Cost: $22,173.

Dated: March 13, 2017.
Tammi Hines,
Acting, Records Management Branch Chief, Mission Support, Federal Emergency Management Agency, Department of Homeland Security.

[FR Doc. 2017-05580 Filed 3-21-17; 8:45 am]

BILLING CODE 9110-13-P